DEPARTMENT OF AGRICULTURE

Animal and Plant Health Inspection Service

9 CFR Part 93

[Docket No. APHIS-2016-0033]

RIN 0579-AE62

Import Regulations for Horses

AGENCY: Animal and Plant Health Inspection Service, USDA.

ACTION: Final rule.

SUMMARY: We are amending the regulations for the importation of equines. These changes include increasing the number of days horses exported from regions free from contagious equine metritis (CEM) are allowed to spend in a CEM-affected region and enter the United States without testing from 60 days to 90 days; requiring an import permit for horses transiting through CEM-affected regions; adding requirements for health certifications to ensure health certifications properly attest to the health of the imported horse; requiring that horses transiting Central America or the West Indies comply with the same regulations that apply to horses directly imported from these regions; and adding requirements for shipping containers used in transporting horses. We are also adding a number of miscellaneous changes to the regulations such as clarifications of existing policy or intent, and corrections of inconsistencies or outdated information. Many of these changes will better align our regulations with international standards and allow us and the equine industry more flexibility. The changes will also add further safeguards that protect against introducing or disseminating pests or diseases of livestock into the United States.

DATES: Effective October 16, 2023.

FOR FURTHER INFORMATION CONTACT: Dr. Iwona Tumelty, VS Strategy and Policy, Live Animal Imports, VS, APHIS, 4700 River Road Unit 39, Riverdale, MD 20737-1231; 301-851-3300; Iwona.Tumelty@usda.gov.

SUPPLEMENTARY INFORMATION:

Background

Under the Animal Health Protection Act (AHPA, 7 U.S.C. 8301 et seq.), the Secretary of Agriculture may prohibit or restrict the importation or entry of any animal, article, or means of conveyance if the Secretary determines that the prohibition or restriction is necessary to prevent the introduction into or dissemination within the United States of any pest or disease of livestock. The AHPA also authorizes the Secretary to prohibit or restrict the use of any means of conveyance in connection with the importation or entry of livestock if the Secretary determines that the prohibition or restriction is necessary because the means of conveyance has not been maintained in a clean and sanitary condition or does not have accommodations for the safe and proper movement of livestock.

The regulations in 9 CFR part 93 (referred to below as the regulations) prohibit or restrict the importation of certain animals, including horses, as well as their means of conveyance, pursuant to the AHPA.

On November 29, 2021, we published in the Federal Register (86 FR 67661-67669, Docket No. APHIS-2016-0033) a proposed rule ¹ to amend the horse import regulations to better align them with international standards and improve flexibility for both the equine industry and the Animal and Plant Health Inspection Service (APHIS). The proposed changes included increasing the number of days horses exported from regions free from contagious equine metritis (CEM) are allowed to spend in a CEM-affected region and re-enter the United States without testing from 60 days to 90 days; requiring an import permit for horses transiting through CEM-affected regions; adding requirements for health certifications to ensure health certifications properly attest to the health of the imported horse; removing the requirement that horses permanently imported from Canada undergo inspection at the port of entry; requiring that horses transiting Central America or the West Indies comply with the same regulations that apply to horses directly imported from these regions; adding requirements for shipping containers used in transporting horses; and a number of minor miscellaneous changes.

¹ To view the proposed rule, supporting document, and the comments we received, go to www.regulations.gov and enter APHIS-2016-0033 in the Search box.

We solicited comments concerning our proposal for 60 days ending January 28, 2022. We received 28 comments by that date. They were from a veterinary association, a business, governing bodies for equestrian sports, breed associations, State departments of agriculture, a university, equine associations, trade organizations, and members of the public.

Of the 28 submissions, 11 supported the rule, 1 did not support the rule, and 16 posed questions or additional suggestions without expressly supporting or disagreeing with the rule. In response to the comments, we made a number of changes to the proposed rule that we are implementing in this final rule. These changes include the following:

• Not proceeding with our proposal to remove, and instead maintaining, the requirement in § 93.317 that horses presented for permanent importation to the United States from Canada receive an inspection prior to entry;

• Not proceeding with our proposal to require a certificate of castration including date of castration and removal of both testicles from all gelded horses in § 93.314;

• Not proceeding with our proposed amendments to § 93.301(d), which would have required additional details in documentation for imported Spanish pure breed horses from Spain and racing thoroughbred horses from France, Germany, Great Britain, the Republic of Ireland, and Northern Ireland;

• Removing Los Angeles, California, and Miami, Florida from the list of air and ocean ports that APHIS has designated for the importation of horses in § 93.303(a);

• Removing the lists of border ports and limited ports in § 93.303(b) through (d) and adding instead a link to the APHIS website which contains the most up-to-date information regarding ports;

• Amending § 93.301(g)(1)(iii) to clarify that breeding of the horse must never have been attempted, either live or artificial;

• Amending § 93.301(f)(5)(v) to state that seals may also be broken by a State animal health official;

• Adding new § 93.301(e)(2)(ii) to state that stallions and mares must be transported to the approved State in a sealed vehicle, and that the seal may be broken only by an APHIS representative, State animal health official, or accredited veterinarian under certain circumstances, at the horse's destination;

• Amending § 93.302(a)(4) to add the World Organization for Animal Health's (WOAH's) ² Terrestrial Animal Health Code as another example of guidance that may be used to meet a shipping container performance standard;

² World Organization for Animal Health (WOAH) (formerly referenced as OIE).

• Correcting the section heading of § 93.304;

• Amending § 93.306 to clarify that APHIS will refuse entry to horses arriving in the same shipment as horses dead upon arrival;

• Amending § 93.308 to clarify that horses imported from regions where African horse sickness exists must obtain an import permit; and

• Amending § 93.314 to clarify that all horses described in § 93.301 that are allowed to enter the United States from a CEM-affected region under special provisions are not required to state on their health certificate that they have not been in a CEM-affected region prior to export.

The comments that we received, as well as details of the changes we made in response to the comments, are discussed below by topic.

Temporary Export to CEM-Affected Countries

We proposed to amend § 93.301(g) by increasing the number of days horses from the United States or other regions not known to be CEM-affected are allowed to spend in a CEM-affected region and re-enter the United States without testing from 60 days to 90 days.

One commenter believed APHIS was decreasing the amount of time a horse from a CEM-affected region was held in quarantine from 90 days to 60 days, and stated that horses should be made to stay the full 90 days to decrease risk of exposure. Another commenter disagreed with this interpretation and stated that the proposed rule referred to the amount of time a horse from the United States or a region not affected with CEM can spend in CEM-affected regions without needing to undergo CEM testing prior to entry into the United States, rather than time in quarantine upon reentry.

The latter commenter's interpretation is correct. APHIS is not decreasing the amount of time an animal is required to spend in quarantine after returning from the CEM-affected region. Rather, APHIS is making changes to special provisions applicable to horses from CEM-free countries temporarily exported to CEM-affected countries that do not have to undergo CEM testing or CEM quarantine upon arrival, provided they meet certain conditions. These conditions include extensive documentation ensuring that the horse was not exposed to CEM during its temporary exportation. APHIS proposed to extend the days of temporary exportation to a CEM-affected region from the current 60 days to 90 days with regard to these special provisions. As the extensive documentation of the horse's health status and movement during its exportation provides assurance that the horse was not exposed to CEM, this change will not increase the risk of introducing animal disease into the United States.

One commenter disagreed with extending the period of temporary export from 60 to 90 days, calling it careless.

APHIS had proposed this change to better align our regulations with the typical competition cycle—the competition cycle is often more than 60, but no more than 90, days. As stated in the proposed rule, APHIS found that the risk of horses introducing CEM to the United States would continue to be minimal if the temporary export period was increased to 90 days. The most significant safeguards against these horses introducing CEM into the United States are the attestations required by the health certificate in the current regulations, rather than the amount of time the horses may spend in a CEM-affected region. As these attestations ensure that horses have not had the opportunity to breed nor have any genital contact, and CEM is spread through these means, we consider these attestations to be effective mitigations against the introduction of CEM. Limiting the period of temporary export is an additional risk mitigation that supplements the mitigation of the health certificate.

CEM Testing

We proposed a number of miscellaneous changes to the regulations regarding test breeding required for horses entering the United States from CEM-affected countries. These included correcting an inconsistency between the requirements in § 93.301(e)(3) and (5) for mares and stallions by specifying that samples from stallions must also be collected by an accredited veterinarian.

One commenter supported adding to the regulations that samples collected from a stallion must be from a qualified trained individual such as an accredited veterinarian, but suggested adding flexibility to the regulations to allow States to approve qualified individuals to take samples as required in § 93.301(e)(3)(i).

We appreciate the suggestion. However, the purpose of this change was only to align the requirements for mares and stallions. We may look into addressing the issue of increased flexibility for States with regards to collecting samples in a future action.

One commenter requested clarification as to who is an accredited veterinarian.

The proposed addition of the term “accredited veterinarian” to § 93.301(e)(3) refers to the individual collecting samples from stallions during test breeding in a State following the horse's export to the United States. As stated in the definition of the term in § 93.300, an accredited veterinarian is a veterinarian approved by the Administrator in accordance with the provisions of 9 CFR part 161 to perform specific outlined functions.

One commenter suggested adding polymerase chain reaction (PCR) testing for CEM to the approved disease screening protocols.

APHIS is constantly monitoring test methods for possible approval. At this time, PCR tests for CEM are not validated by the National Veterinary Services Laboratories (NVSL), the reviewing party within APHIS for tests of diseases of concern for livestock.

One commenter suggested that retired racing stallions repatriated to the United States to accredited sanctuaries should not have to undergo test breeding for CEM.

We understand that racing stallions may come to the United States to retire and find test breeding onerous. However, our CEM testing requirements are critical to ensuring that the United States is protected against the introduction of foreign animal disease. We also note that, under certain circumstances, retiring racehorses may not have to undergo test breeding. For example, if the retiring racehorse is a racing thoroughbred that meets the requirements of § 93.301(d), which pertains to Spanish Pure Breed horses from Spain and thoroughbred horses from France, Germany, Great Britain, the Republic of Ireland, and Northern Ireland imported for permanent entry from CEM-affected regions, the horse does not have to undergo CEM test breeding upon arrival to the United States.

One commenter stated that test breeding for CEM in general should be reconsidered, calling the practice “inhumane” and stating that advancements in science have resulted in more humane methods to test for CEM.

We are constantly monitoring the development of new testing methods and look to adopt new methods when they are validated. At this time, test breeding has been determined to be the most reliable method to ascertain whether horses are affected with CEM and therefore to protect the United States against the introduction of foreign animal disease.

Horses From CEM-Affected Countries

We proposed a number of miscellaneous changes to the regulations regarding horses entering the United States from CEM-affected countries.

These included changes to paragraph (d) of § 93.301, which governs the importation of Spanish pure breed horses from Spain and racing thoroughbred horses from France, Germany, Great Britain (England, Scotland, and Wales), the Republic of Ireland, and Northern Ireland,³ stipulating verification and documentation requirements that these horses must meet to qualify for exemption from the prohibition on importation of horses from CEM-affected regions. We proposed to amend § 93.301(d) to increase the level of detail in the verification and documentation requirements for these horses. Our proposal included requiring that, for Spanish pure breed horses, the health certificate state that the horses have been in Spain for a minimum of 60 days immediately prior to export; and for racing thoroughbreds from France, Germany, Ireland, and the United Kingdom, that the health certificate state that the horses have been in one or more of these countries for a minimum of 60 days immediately prior to export. Our proposal also included adding to the regulations the words “and identification” after the word “activities” in the description of the information the veterinarian issuing the health certificate is required to examine; adding to the regulations the words “including the competition or event records” after the words “the records kept by the trainer” in the description of the records the veterinarian is required to examine; and clarifying that the prohibition on attempted breeding that the veterinarian is required to ensure has not occurred applies to both live and artificial breeding. We also proposed to make an editorial change to paragraph (d) by adding the word “racing” in front of the words “thoroughbred horses from France, Germany, Ireland, and the United Kingdom.”

³ At the time of the proposed rule's publication, these regions were characterized as “France, Germany, Ireland, and the United Kingdom,” and were referred to as such in our proposed rule and by commenters. A final rule published in the Federal Register on August 16, 2021 (86 FR 45621-45629, Docket No. APHIS-2021-0003) updated the regulations to treat Great Britain (England, Scotland, and Wales) and Northern Ireland as separate entities following the exit of the United Kingdom (UK) from the European Union.

One commenter asked about the significance of adding the word “racing” before “thoroughbreds.” Another commenter stated that the requirements that racing thoroughbreds from a CEM-affected country must meet to compete temporarily in the United States are excessive and a financial burden.

We have decided not to proceed with our proposed changes to § 93.301(d). Since the close of the comment period, APHIS has discovered a high degree of noncompliance with the current verification and documentation requirements in § 93.301(d). While we have strengthened our guidance to importers and remediated the non-compliance on a case-by-case basis thus far, and while we are still evaluating the full basis for this non-compliance, the fact that the horses to which these regulations apply move so rapidly between countries is a contributing factor, since this alacrity and frequency of movement makes it challenging for importers to provide the required verification and documentation. We believe that the proposed amendments could exacerbate that problem by adding to the current verification and documentation requirements. We do not want to proceed with the proposed amendments without first evaluating how to increase compliance.

To address this issue, we intend to undertake a holistic evaluation of the requirements in this section. We will propose any revisions to § 93.301(d) resulting from this evaluation at a future date.

Until such rulemaking is promulgated, the provisions of current § 93.301(d) will remain in effect.

Two commenters stated that the approved breed association for France should be updated to France Galop.

A final rule published in the Federal Register on August 16, 2021 (See footnote 3) updated the regulations to list France Galop as the approved breed association for France.

A commenter stated that some States want to seal doors and barns shut as part of their protocol for keeping a competition horse separated from other horses, and that this is a liability in the case of situations such as fires.

Event organizers routinely discuss emergency protocols in the case of unforeseen circumstances such as fires prior to competition events to ensure the wellbeing of competition horses. Because this contingency planning is a routine business practice, we do not believe that our requirements to keep competition horses separate from other horses place horses at an increased risk of harm in the case of emergencies.

Two commenters asked for the United States and other CEM-free countries to be added to the temporary import exemption provisions for racing thoroughbreds residing in France, Germany, Ireland, and/or the United Kingdom.

As the provisions that the commenter refers to in § 93.301(d) pertain to the importation of a horse from outside the United States into the United States, adding provisions governing reentry of domestic horses to the paragraph would not be warranted or appropriate. Additionally, at this time, we cannot consider adding other countries because a comprehensive evaluation of adequate and reliable recordkeeping on the health history of horses in the country would need to be completed. If a country requests to be added to this list, and APHIS confirms their maintenance of accurate and reliable recordkeeping, APHIS will consider additional changes to the regulations. Currently, APHIS evaluates requests for exemptions for horses from other countries on a case-by-case basis.

We also note that meeting the requirements of § 93.301(d) for racing thoroughbred horses from France, Germany, Great Britain (England, Scotland, and Wales), the Republic of Ireland, and Northern Ireland is not the only way horses can receive an exemption from CEM provisions. U.S.-origin horses may travel to a CEM-affected country for a specified period of time for competition and return without having to complete CEM testing or quarantine if the horse meets the requirements outlined in § 93.301(g).

One commenter asked whether a competition horse that spends 90 days in the European Union and qualifies for the CEM testing exemption in § 93.301(g) can return multiple times within 12 months to the European Union and continue to qualify for the CEM testing exemption.

Section 93.301(g) allows U.S.-origin horses to travel to CEM-affected regions for a maximum of 90 days at a time. The number of 90-day trips that a U.S.-origin horse can take within this 12-month period is not restricted by the regulations.

One commenter requested that, in addition to breeding and sexual contact, we add semen collection as a prohibited practice for horses temporarily exported to CEM-affected countries who can re-enter the United States without testing. The commenter noted that CEM can be transmitted through artificial insemination (which involves semen collection).

Because CEM can be spread through semen regardless of the method of insemination, we agree with the commenter and consider artificial breeding a form of breeding. We have revised the prohibition on breeding in § 93.301(g)(1)(iii) to specify that breeding of the horse must never have been attempted, whether live or artificial.

One commenter asked that we modify § 93.301(f)(5)(v), which governs transit within the United States for horses temporarily imported for competition or entertainment purposes, to allow State animal health officials to break seals on sealed vehicles due to the varying availability of APHIS representatives in different States.

We agree with the commenter and will add to the regulations that seals may also be broken by a State animal health official. As these individuals are also trained in preventing the introduction or dissemination of animal disease, this will not increase the risk of introducing CEM into the United States.

The commenter also asked that we add a requirement that trailers transporting horses from Federal to State CEM quarantine be sealed, as this is a routine practice and the explicit addition to the regulations would help with enforceability.

As we stated in the proposed rule, one of the aims of the rule was to clarify existing policy or intent with regard to our regulations governing the importation of equines. We agree with the commenter that the requirement requested does reflect current operational practice for transport of horses from Federal CEM quarantine to State CEM quarantine, and thus fits within this articulated rubric. Accordingly, we will add a new § 93.301(e)(2)(ii) to state that stallions and mares must be transported to the approved State in a sealed vehicle, and that the seal may be broken only by an APHIS representative or a State animal health official at the horse's destination. If an APHIS representative or State animal health official is unavailable to break the seal due to extenuating circumstances, the State animal health official may designate the authority to unseal to an accredited veterinarian and the State animal health official will assume the responsibility for oversight and recordkeeping.

Two commenters asked us to require that a horse's final destination in the United States following CEM quarantine release be listed on the horse's import permit.

This requirement is already captured in the eFile application system. We are currently in the process of phasing out the ePermits system and replacing it with eFile.

Shipping Containers

We proposed to add additional requirements for shipping containers to § 93.302 by adding disinfection requirements and measures to ensure that horses are transported safely. We proposed to present these requirements as performance standards, and referred individuals to the Live Animals Regulations (LAR), as amended, published by the International Air Transport Association (IATA) for optional guidance on how to meet these requirements. We also proposed that, if an importer wished to use alternative means of meeting the requirements other than those in the LAR, they would be able to contact APHIS Live Animal Imports to ask for approval. Five commenters suggested that APHIS develop its own standards for shipping containers or add more details to regulations, rather than using a performance standard and referring individuals to the LAR published by the IATA for guidance. These commenters cited ambiguity inherent to performance standards, and the high cost of purchasing the LAR as concerns.

Performance standards allow for the possibility of a variety of means in order to meet them. As one of the commenters noted, the various breeds, sizes, and ages of horses shipped make one-size-fits-all requirements for shipping containers difficult. If importers are unsure whether they have met the performance standard, they can contact APHIS Live Animal Imports to ask for approval by phone at (301) 851-3300, option 2, or by email at LAIE@usda.gov. If, in the future, we believe that additional clarification would be helpful, we may look into the development of further policy.

Regarding costs, importers are not required to use the LAR published by the IATA to meet the performance standard. Individuals may contact APHIS Live Animal Imports to ask for approval of a particular shipping container by the methods outlined above, without recourse to the examples of guidance that we provide in the regulatory text.

That being said, we acknowledge commenters' concerns about the accessibility of the LAR and recognize that the regulations as written in our proposal may have incorrectly given importers the impression that using the LAR is preferred over other means of meeting the performance standard. In response to these concerns, we are amending the regulatory text to add that the WOAH's Terrestrial Animal Health Code may also be used to meet the performance standard. The Terrestrial Animal Health Code can currently be accessed online ⁴ at no cost, and also meets the standards for shipping containers that we have laid out in the regulations.

⁴ The Terrestrial Animal Code is available at https://www.woah.org/en/what-we-do/standards/codes-and-manuals/terrestrial-code-online-access/.

One commenter asked us to add a provision giving APHIS the authority to test shipping containers for disease.

The existing regulation, redesignated as § 93.302(b) in this rule, allows inspectors to inspect whether a means of conveyance, including shipping containers, are contaminated with material that could introduce or disseminate any communicable animal disease. This gives APHIS the authority to test shipping containers for disease, if necessary. Our addition of specific cleaning and disinfection requirements in § 93.302(a) further ensures that biosecurity is upheld.

Horses From Canada

We proposed to remove the requirement in § 93.317 that horses presented for permanent importation to the United States from Canada receive an inspection prior to entry.

Four commenters expressed concern about our proposed removal of the inspection requirement for horses permanently imported from Canada. These commenters raised the possibility that horses that enter Canada from a different country would then be able to circumvent the health requirements for horses permanently entering the United States from that country. One additional commenter disagreed with our proposal without citing a reason.

We acknowledge the possibility of the commenters' concerns, as our proposed change would have allowed the importation of horses from Canada without inspection, which could present a risk of disease introduction in the event the horse originates from a higher risk region of the world. In light of the commenters' response, we will not proceed with this proposed change. Horses permanently imported into the United States from Canada will continue to undergo the currently required inspection at the port of entry. We will, however, proceed with making nonsubstantive editorial changes to paragraph (a) of § 93.317 to reflect a paragraph redesignation and to improve readability.

Transiting Horses

We proposed to amend § 93.304(a)(1)(i) by adding horses transiting CEM-affected regions to the list of horses requiring an import permit. We also proposed to amend § 93.319 by adding horses transiting Central America and the West Indies as horses requiring an import permit.

One commenter stated that they agreed that horses imported from Central America and the West Indies should comply with the regulations.

We would like to clarify that we proposed a change to horses transiting these regions. The requirements already apply to horses directly imported from these regions.

Five commenters asked us to define the term “transiting,” as its meaning in the regulations may vary depending on the type of horse.

The regulations pertaining to different types of transiting horses are contained in the specific sections for each type of transiting horse, and the meaning of the term “transiting” is contextually clear within each section. If individuals have specific questions regarding these requirements, they can contact APHIS Live Animal at LAIE@usda.gov.

Certificate of Castration

We proposed to add to § 93.314 that health certificates must confirm that the horse has not been castrated during the 14 days preceding exportation. We also proposed to require that all castrated horses be accompanied by a certificate of castration that includes the date of castration and confirmation that both testicles have been removed.

Five commenters expressed concern that a certificate of castration including a date of castration could be difficult or impossible to obtain, especially for horses castrated years in the past or that have had multiple owners.

We agree with the commenters' concerns regarding the collection of this information. Written confirmation that the horse has not been castrated ⁵ within the past 14 days will be sufficient to mitigate the risks associated with transporting recently castrated horses. We will not proceed with our proposal to require a certificate of castration including date of castration and removal of both testicles from all gelded horses.

⁵ The terms “castrated” and “gelded” are equivalent and are used interchangeably in this document.

One commenter asked for additional clarification on the certificate of castration requirement, asking about the required level of detail and whether an updated passport indicating the horse was castrated would suffice.

As noted above, we will only require confirmation that the horse has not been castrated within the 14 days preceding export. An updated passport would not fulfill this requirement. The attestation must be completed by a salaried veterinary officer of the national government of the region of origin, or as otherwise specified in § 93.314, and may come in the form of an attestation on the health certificate, or as an addendum to the health certificate that accompanies the horse upon arrival.

Pre-Export Exam

We proposed to require documentation stating that the pre-export examination required by § 93.314 occurred within 48 hours of the horse's export.

Three commenters expressed concern about the proposed requirement to complete the pre-export examination within 48 hours of the horse's export if the horse's travel time from point of origin to port of embarkation exceeds 48 hours, particularly in the case of long layovers or flight delays. One of these commenters also asked for clarification on whether the 48-hour window referred to the expected or actual departure time.

APHIS is requiring that horses complete a pre-export exam within 48 hours of export because an increasing number of horses are being imported into the United States that are sick or injured and noncompliant with the regulations. Not only does this pose a risk of introducing into or disseminating within the United States pests or diseases of livestock, but it also increases quarantine time and user fees for stakeholders. We believe that requiring horses to receive a pre-export exam within this timeframe will help mitigate these problems.

Because horses are required by § 93.314(b) to obtain a health certificate from each region in which they have been present during the 60 days prior to their shipment to the United States, horses that have an extended layover are currently required to obtain a health certificate from the country in which they had a layover. Therefore, the addition of a requirement of a pre-export exam completed within 48 hours does not impose an additional requirement in this situation.

Horses must be inspected within 48 hours of their actual departure time. To clarify what we meant by “within 48 hours of export” in the proposed rule, we will update § 93.314(a)(5) to replace the phrase “of export” with the phrase “of departure from the port of embarkation.” Extenuating circumstances, such as flight delays, are handled by APHIS on a case-by-case basis, as provided for by the current regulations in § 93.301(a).

Identification

We proposed to add the phrase “or other permanent identification approved by APHIS” to the requirement in § 93.301(e)(4) that mares used to test stallions for CEM be marked with the letter “T”.

Five commenters asked that we add International Standards Organization-compliant microchips to the list of approved permanent means of identification for test mares in § 93.301(e)(4)(i).

As stated in the proposed rule, individuals will be able to contact APHIS Live Animal Imports by email at VS.CEM.DATA@usda.gov to seek approval of alternative permanent means of identification, including microchips. APHIS will work with stakeholders to ensure that this process is as efficient and expeditious as possible. As of now, APHIS has not evaluated whether microchips would be a viable method of identification in all instances.

Three of these commenters also asked that we clarify how individuals can request U.S. Department of Agriculture (USDA) approval of alternative forms of permanent identification for test mares.

As stated in the proposed rule, individuals may request approval of alternative permanent means of identification by contacting APHIS Live Animal Imports by email at VS.CEM.DATA@usda.gov.

Two commenters suggested that APHIS create a process through which States could seek permanent approval for an alternative type of permanent identification device to be used in that State.

At this time, limited agency resources do not make the creation of such a process practicable. However, we will continue to work with our State partners to ensure that the process for considering the approval of an alternative means of identification is as efficient and expeditious as possible.

One commenter sought clarification on why importers would be interested in using other means of permanent identification for test mares, and added that microchips are an acceptable form of identification.

Currently, the regulations only allow test mares to be identified by being marked with the letter “T”. Microchips are not listed as an acceptable form of permanent identification. Our change allows for the possibility of using permanent identification methods other than branding, such as microchips.

One commenter stated that photos of detailed markings of test mares should be collected to correlate with microchip identification information.

Approval of microchipping as a form of identification, including the specifics of recordkeeping involved in microchipping, will be considered on a case-by-case basis.

One commenter requested that we remove all references to eartags as a means of identification in part 93, as a horse is unlikely to have one, and they are insufficient for traceability.

The only reference to eartags in part 93 occurs in § 93.304, where they are listed as an example of identifying information about a horse to include on an import permit. We acknowledge that eartags are not a frequently used method of identification. However, in order to account for rare circumstances, to ensure that import permits include all possible relevant identifying information, and to retain consistency with the domestic animal traceability regulations in 9 CFR part 86, we will continue to list eartags as an accepted method of identification.

Quarantine

We proposed miscellaneous minor changes to regulations related to horses entering quarantine, including clarifying that horses originating from regions in which Venezuelan equine encephalomyelitis or screwworm is declared to exist may not complete quarantine in temporary, privately-owned quarantine facilities.

Two commenters asked that we remove the requirement for importers to use a trust fund agreement or escrow account agreement for quarantined horses and instead require these individuals to incur and pay user fees.

This is outside of the scope of this rulemaking.

One commenter asked us to consider specific measures to better ensure that horses completing quarantine following importation into the United States meet a destination State's import criteria prior to being moved into the State, as required by § 86.5.

This is also outside of the scope of this rulemaking.

Five commenters asked us to allow horses that receive non-negative tests for quarantine diseases to move to other facilities that better serve their health and wellness needs while waiting for a re-test.

Horses must remain in quarantine facilities for the full length of time prescribed by APHIS to ensure that no communicable animal diseases enter the United States. APHIS determines these quarantine requirements using the best available science regarding the diseases of concern. At the same time, APHIS works to address the health and wellbeing needs of horses in the quarantine facilities it operates. Privately owned quarantine facilities must meet the standards outlined in § 93.308(c) to also address these needs before being approved by APHIS.

Additionally, APHIS representatives work with importers to make sure the needs of horses are met while they are in quarantine.

One commenter stated that provisions need to be made for horses that arrive ill or injured, or become sick or are injured while in import quarantine, and require veterinary care beyond what can be provided at the quarantine facility.

This is standard practice in quarantine facilities. When horses exhibit signs of illness or injury upon arrival or during import quarantine, importers are responsible for bringing in an accredited veterinarian to examine and treat the animal. If the accredited veterinarian determines that the horse needs advanced care at a veterinary hospital, the horse is transported to a veterinary hospital approved by APHIS to treat horses under import quarantine.

Two commenters stated that horses that test negative for regulated diseases during quarantine but that exhibit signs of other illness and require treatment at an approved veterinary hospital should have less stringent quarantine requirements than untested horses.

Our quarantine requirements are based on the best available scientific understanding of communicable diseases of horses. Testing is just one part of the quarantine process. Observation under isolation for the requisite period of time is also essential, as horses that test negative for regulated diseases may still be sick with other infectious or emerging diseases and pose a risk to domestic livestock. Therefore, this suggestion is not practicable at this time. However, we may look further into this suggestion in the future.

Three commenters stated that USDA should dedicate resources to pursue advancing diagnostic testing capabilities for equine import testing, particularly for dourine and glanders diagnostic tests.

We are continuously working with NVSL to build capacity and develop diagnostic testing capabilities for equine import testing.

Two commenters requested that USDA maintain a system of recording and reporting abnormal health events that would be used to notify animal health officials in the state of the horse's destination, as recommended by the U.S. Animal Health Association's (USAHA) Committee on Equine.

We appreciate the suggestion and are working closely with stakeholders and other relevant parties to discuss USAHA's requests. We also note that APHIS currently has a protocol in place for recording and notifying State animal health officials of adverse health events in imported equines.

Three commenters asked that we define the terms “Federal quarantine,” “private quarantine,” and “temporary private quarantine.”

The terms “permanent, privately owned quarantine facility” and “temporary, privately owned quarantine facility” are defined in § 93.300. These definitions distinguish these facilities from Federal quarantine facilities, which are facilities directly operated by APHIS.

Three commenters requested the removal of a reference to allowing exercise equipment in horses' stalls in permanent, privately owned quarantine facilities, as this may compromise the safety of the horse. One of these commenters also asked APHIS to allow horses other opportunities for exercise in both privately owned and Federal quarantine facilities.

Section 93.308(c)(3)(ii)(G) allows exercise equipment to be kept in the stall with the horse in permanent, privately owned quarantine facilities only if there will still be sufficient space within the stalls for the horse to move freely once the equipment is installed. Port officials work with owners to ensure the safety of the horse in these situations. When there are reasonable requests to allow a horse other forms of exercise during quarantine, such as exercise within the lot-holding area, APHIS evaluates the request for feasibility and compliance with the regulations, and works collaboratively with the horse's owner, importer, or other responsible party to address the request.

One commenter asked us to consider allowing horses from VEE-affected and screwworm-affected countries to quarantine in temporary, privately owned quarantine facilities.

As stated in the preamble to the proposed rule, horses from VEE- or screwworm-affected countries cannot complete quarantine in temporary, privately owned quarantine facilities because the performance requirements for these facilities are not sufficient to safeguard against vector-borne foreign animal diseases (which include screwworm, VEE, and African horse sickness).

Screwworm

We proposed to move the screwworm regulations from § 93.301 to § 93.308 and make a minor correction and clarification.

One commenter stated they supported the creation of a screwworm section.

We would like to clarify for the commenter that, as stated in the preamble to the proposed rule, we are not creating a new section regarding screwworm, but rather moving the existing regulations regarding screwworm to a different section and adding minor corrections and clarifications.

One commenter stated that, if USDA allows for exemptions from the 7-day screwworm import quarantine requirements, then a screwworm examination by the accredited veterinarian must be required prior to quarantine release.

We did not propose to add an exemption to the 7-day screwworm quarantine requirement in the regulations. The regulations continue to require that horses from screwworm-affected countries complete a minimum of 7 days in quarantine.

The commenter also requested that we allow a 3-day quarantine instead of 7-day quarantine for horses that stop in a screwworm-affected country for a plane to refuel. Another commenter asked why horses from Australia or New Zealand are required to complete a 7-day quarantine if they transit a screwworm-affected country, while horses from certain screwworm-affected regions are allowed a shorter quarantine period.

As stated above, we did not propose substantive changes to the screwworm regulations. Therefore, the length of time a horse from a screwworm-affected country spends in quarantine is outside the scope of this rulemaking.

Other Comments

Two commenters noted that the lists of ports of entry for horses in § 93.303 were not accurate or did not match those listed on the APHIS website.

The commenters are correct that this information is not up to date in the regulations. Because ports have historically opened or closed more frequently than could be updated via rulemaking, resulting in inaccurate information in the regulations, and because the proposed rule in several instances discussed activities that must take place at an approved port of entry in order for a horse to be validly imported, it is important for clear and unambiguous implementation of this final rule that the lists of such ports of entry be up to date. Accordingly, we will remove the lists of Canadian border ports in paragraph (b), Mexican border ports in paragraph (c), and limited ports in paragraph (d) in § 93.303 and add instead a link to the APHIS website (https://www.aphis.usda.gov/aphis/ourfocus/importexport/animal-import-and-export/equine), which contains the most up-to-date information regarding ports. In each of these three paragraphs from which we are removing the lists of ports, we will note that changes to the list of approved ports will be announced through notices published in the Federal Register.

Additionally, we will add this link to paragraph (e), which contains information about ports for horses to be quarantined at privately owned quarantine facilities, but does not currently include a list of these ports or information about where such a list may be found. We will also update the list of air and ocean ports in paragraph (a) to remove Los Angeles, California and Miami, Florida, as these ports no longer have APHIS-operated inspection and quarantine facilities for horses.

One commenter stated they had concerns about the validity of the list of VEE-affected countries when some countries fail to report disease outbreaks to the WOAH. Four other commenters expressed concern about the reliability of all the lists of countries affected by regulated equine diseases that APHIS maintains.

The WOAH is not the only source APHIS relies on to determine a country's disease status. As stated in § 93.308(a)(1)(ii), APHIS will add a region to the list of VEE-affected regions based on reports we receive of outbreaks of the disease from veterinary officials of the exporting country, from WOAH, or from other sources the Administrator determines to be reliable. The same is true for lists of regions where screwworm, African horse sickness, and CEM are considered to exist.

One commenter asked for further clarification on how APHIS deals with horses dead upon arrival, and asked us to add to the regulations that APHIS has the authority to require diagnostic testing for horses arriving in the same shipment as a dead horse to ensure that these horses were not exposed to an infectious, contagious condition.

As clarified in the proposed rule, APHIS will refuse entry to horses that are found to be dead upon presentation at the port of entry. The commenter's concern about horses arriving in the same shipment as a dead horse is warranted, as these horses pose an increased risk of introducing animal disease into the United States. Diagnostic testing for these horses would not be feasible, as determining what additional testing and quarantine would be necessary to mitigate disease risk would require a necropsy of the dead horse, and dead horses are refused entry. To address the disease risk that the commenter raises, we will add the phrase “and horses arriving in the same shipment as such horses” after the phrase “horses dead upon presentation” in § 93.306 to clarify that APHIS will refuse entry to such horses as well.

Three commenters recommended that APHIS adopt the USAHA Committee on Equine's request to amend the quarantine requirements for horses from VEE-affected countries by requiring that all horses be isolated 3 weeks prior to shipment, that horses vaccinated against VEE be vaccinated no less than 60 days prior to arrival at the import center, and that unvaccinated horses have negative results for VEE no less than 14 days after the commencement of quarantine.

We appreciate the suggestion and are working closely with stakeholders to discuss USAHA's requests.

Four commenters asked that the written plan outlined in § 93.304(a)(1)(iii)(I) to handle sick and injured horses required of horses temporarily imported into the United States solely for noncompetitive public exhibition and entertainment purposes include biosecurity measures.

The written plan referred to by the commenters is a part of the import permit application required of this class of horses. As such, APHIS evaluates the written plan before granting a permit, keeping biosecurity measures in mind while assessing the information provided regarding the accredited veterinarian and medical facility that will treat the horses should they become sick or injured while in the United States.

Miscellaneous

In paragraph (a)(1) of § 93.308, we proposed to clarify the regulations by adding that horses imported from regions where VEE exists must obtain an import permit in accordance with § 93.304. In reviewing the proposed rule, we noticed that we had neglected to clarify regulations regarding horses imported from regions where African horse sickness exists in the same manner. We are adding the sentence “Each horse must be accompanied at the time of importation by an import permit in accordance with § 93.304.” to paragraph (a)(2) of § 93.308.

In reviewing the proposed rule, we also noticed an outdated address. We are updating the address listed in § 93.301(h)(7) to reflect that the name of the relevant Veterinary Services division has changed from “Regionalization Evaluation Services” to “Live Animal Imports.”

We are also making a minor nonsubstantive change by adding a correction to the section heading of § 93.304. The section heading currently reads “Import permits for horses from regions affected with CEM and for horse specimens for diagnostic purposes; reservation fees for space at quarantine facilities maintained by APHIS.” As this section refers to import permits for all horses that require them, rather than only for horses from regions affected with CEM, we are removing the phrase “from regions affected with CEM” so that the heading more accurately reflects the information contained within the section.

Finally, in our proposal, we proposed to amend § 93.314(a)(7)(i) to clarify that the requirement contained within it, that health certificates must state that horses have not been in any region affected with CEM during the 12 months immediately prior to export, does not apply to horses described in § 93.301(f), which are horses from regions affected with CEM that are temporarily imported to the United States for competition or entertainment purposes. In reviewing the proposed rule, we noticed that we had neglected to clarify that this provision also does not apply to horses described in paragraph (d) of § 93.301, which are Spanish Pure Breed horses from Spain and racing thoroughbred horses from France, Germany, the Republic of Ireland, Great Britain, and Northern Ireland and paragraph (e), which are stallions and mares over 731 days of age from CEM-affected regions. Like horses described in § 93.301(f), these horses have special provisions outlined in the aforementioned paragraphs. To avoid confusion and align § 93.314 with these provisions, we are amending the regulatory text to clarify that horses described in § 93.301(d) and (e) are also excluded from the requirement in § 93.314(a)(7)(i).

Therefore, for the reasons given in the proposed rule and in this document, we are adopting the proposed rule as a final rule, with the changes discussed in this document.

Executive Order 12866 and Regulatory Flexibility Act

This final rule has been determined to be not significant for the purposes of Executive Order 12866 and, therefore, has not been reviewed by the Office of Management and Budget.

In accordance with the Regulatory Flexibility Act, we have analyzed the potential economic effects of this action on small entities. The analysis is summarized below. Copies of the full analysis are available on the Regulations.gov website (see footnote 1 in this document for a link to Regulations.gov) or by contacting the person listed under FOR FURTHER INFORMATION CONTACT.

APHIS is amending elements of its equine import regulations.

First, APHIS will amend its regulations for temporary export of horses to CEM-affected regions. The changes will allow horses to spend up to 90 days in a CEM-affected region.

The amendments will also allow APHIS to correct and clarify information in 9 CFR 93.308, 93.314, and 93.319. This includes updating the regulations to reflect current policies and affected regions. It also includes amending the description of health certification and permit requirements.

Executive Order 12988

This final rule has been reviewed under Executive Order 12988, Civil Justice Reform. This rule: (1) Preempts all State and local laws and regulations that are inconsistent with this rule; (2) has no retroactive effect; and (3) does not require administrative proceedings before parties may file suit in court challenging this rule.

Congressional Review Act

Pursuant to the Congressional Review Act (5 U.S.C. 801 et seq.), the Office of Information and Regulatory Affairs designated this rule as not a major rule, as defined by 5 U.S.C. 804(2).

Paperwork Reduction Act

In accordance with section 3507(d) of the Paperwork Reduction Act of 1995 (44 U.S.C. 3501 et seq.), the reporting and recordkeeping requirements included in this final rule, which were filed under 0579-0485, have been submitted for approval to the Office of Management and Budget (OMB). When OMB notifies us of its decision, if approval is denied, we will publish a document in the Federal Register providing notice of what action we plan to take.

E-Government Act Compliance

The Animal and Plant Health Inspection Service is committed to compliance with the EGovernment Act to promote the use of the internet and other information technologies, to provide increased opportunities for citizen access to Government information and services, and for other purposes. For information pertinent to E-Government Act compliance related to this rule, please contact Mr. Joseph Moxey, APHIS' Paperwork Reduction Act Coordinator, at (301) 851-2483.

List of Subjects in 9 CFR Part 93

Animal diseases, Imports, Livestock, Poultry and poultry products, Reporting and recordkeeping requirements.

Accordingly, we are amending 9 CFR part 93 as follows:

PART 93—IMPORTATION OF CERTAIN ANIMALS, BIRDS, FISH, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622 and 8301-8317; 21 U.S.C. 136 and 136a; 31 U.S.C. 9701; 7 CFR 2.22, 2.80, and 371.4.

2. Amend § 93.300, in the definition of Recognized Slaughtering Establishment by revising footnote 2 to read as follows:

§ 93.300 Definitions.

* * * * *

² See footnote 1 of this section.

3. Amend § 93.301 by:

a. Adding a heading to paragraphs (a) and (b);

b. In paragraph (a), redesignating footnote 3 as footnote 1;

c. In paragraph (b) introductory text, redesignating footnote 4 as footnote 2;

d. In paragraph (b)(1)(ii), redesignating footnote 5 as footnote 3, and revising newly redesignated footnote 3;

e. In paragraph (d)(1)(ii)(B) introductory text, redesignating footnote 6 as footnote 4;

f. In paragraph (d)(3), removing the words “paragraph (h)(6) or (h)(7)” and adding the words “paragraph (h)(7) or (8)” in their place;

g. In paragraph (e)(2)(i), removing “(h)(6)” and adding “(h)(7)” in its place, and removing “(h)(7)” and adding “(h)(8)” in its place;

h. Redesignating paragraphs (e)(2)(ii) through (iv) as paragraphs (e)(2)(iii) through (v), respectively, and adding a new paragraph (e)(2)(ii);

i. In paragraph (e)(3)(i) introductory text, in the first sentence, adding the words “by an accredited veterinarian” after the words “of the stallion”;

j. In paragraph (e)(3)(i)(A), by redesignating footnote 7 as footnote 5;

k. In paragraph (e)(3)(i)(B), in the first sentence, adding the words “(for the purposes of this section, the day after the date of breeding is considered the first day after breeding)” after the words “fourteenth day after breeding”;

l. Revising paragraph (e)(4)(i);

m. In paragraphs (e)(5)(ii) and (iii), redesignating footnotes 8 and 9 as footnotes 6 and 7 respectively;

n. Revising paragraph (f)(5)(v);

o. In paragraph (f)(10)(i), removing the words “paragraph (h)(6) or (h)(7)” and adding the words “paragraph (h)(7) or (8)” in their place;

p. Revising paragraphs (g) introductory text and (g)(1)(iii);

q. In paragraph (g)(4), removing the words “(a) through (c)” and adding the words “(g)(1) through (3)” in their place;

r. Redesignating paragraphs (h)(4) through (7) as paragraphs (h)(5) through (8), respectively, and adding a new paragraph (h)(4);

s. Revising newly redesignated paragraphs (h)(7) and (8);

t. Removing paragraph (j); and

u. Revising the OMB citation at the end of the section.

The revisions and additions read as follows:

§ 93.301 General prohibitions; exceptions.

(a) General prohibitions. * * *

(b) General exceptions. * * *

* * * * *

(e) * * *

(2) * * *

(ii) Stallions and mares must be transported to the approved State in a sealed vehicle. The seal may be broken only by an APHIS representative or a State animal health official at the horse's destination. If an APHIS representative or State animal health official is unavailable to break the seal due to extenuating circumstances, the State animal health official may designate the authority to unseal to an accredited veterinarian and will assume the responsibility for oversight and recordkeeping.

* * * * *

(4) * * *

(i) Mares to be used to test stallions for CEM shall be permanently identified before the mares are used for such testing with the letter “T” or other permanent identification approved by APHIS on a case-by-case basis. The marking shall be permanently applied by an inspector, a State inspector, or an accredited veterinarian who shall use a hot iron, freezemarking, a lip tattoo, or other APHIS-approved method. If a hot iron or freezemarking is used, the marking shall not be less than 2 inches (5.08 cm) high and shall be applied to the left shoulder or left side of the neck of the mare. If a lip tattoo is used, the marking shall not be less than 1 inch (2.54 cm) high and 0.75 inch (1.9 cm) wide and shall be applied to the inside surface of the upper lip of the test mare.

* * * * *

(f) * * *

(5) * * *

(v) While in transit, the horse must be moved in either an aircraft or a sealed van or trailer. If the horse is moved in a sealed van or trailer, the seal may be broken only by an APHIS representative or State animal health official at the horse's destination, except in situations where the horse's life is in danger.

* * * * *

(g) Special provisions for the importation of horses that have been temporarily exported to a CEM-affected region. If a horse originating from the United States has been temporarily exported for not more than 90 days to a CEM-affected region listed under paragraph (c)(1) of this section and returns to the United States during that time, or if a horse originating from a non-CEM affected region has been temporarily exported for not more than 90 days to a CEM-affected region during the 12 months preceding its proposed importation to the United States, the horse may be eligible for return, or for importation into the United States, without meeting the requirements of paragraphs (d) through (f) of this section, under the following conditions:

(1) * * *

(iii) That breeding of the horse, either live or artificial, has never been attempted, nor has the horse had any other sexual contact or genital examination while in such region; and

* * * * *

(h) * * *

(4) The State must agree to provide oversight during the test breeding of quarantined stallions.

* * * * *

(7) A list of States approved by APHIS to receive stallions over 731 days of age imported under paragraph (e) of this section is maintained on the APHIS website at www.aphis.usda.gov/aphis/ourfocus/importexport/animal-import-and-export/equine. Copies of the list will also be available via postal mail, fax, or email upon request to Live Animal Imports, Veterinary Services, Animal and Plant Health Inspection Service, 4700 River Road Unit 38, Riverdale, MD 20737.

(8) A list of States approved by APHIS to receive mares over 731 days of age imported under paragraph (e) of this section is maintained on the APHIS website at www.aphis.usda.gov/aphis/ourfocus/importexport/animal-import-and-export/equine. Copies of the list will also be available via postal mail, fax, or email upon request to Live Animal Imports, Veterinary Services, Animal and Plant Health Inspection Service, 4700 River Road Unit 38, Riverdale, MD 20737.

* * * * *

³ See footnote 2 of this section.

(Approved by the Office of Management and Budget under control numbers 0579-0040, 0579-0165, 0579-0324, and 0579-0485)

4. Amend § 93.302 by:

a. Redesignating paragraphs (a) through (d) as paragraphs (b) through (e), respectively, and adding a new paragraph (a); and

b. Adding a heading to newly redesignated paragraph (e).

The additions read as follows:

§ 93.302 Inspection of certain aircraft and other means of conveyance and shipping containers thereon; unloading, cleaning, and disinfection requirements.

(a) Shipping container requirements. Shipping containers used to transport live equine(s) to the United States must meet the following requirements:

(1) Containers must be new or cleaned and disinfected in a manner that sufficiently reduces the risk of introduction or dissemination of any pests or diseases of livestock into the United States.

(2) Containers must be of sufficient size and construction to reasonably assure that live equine(s) are transported safely.

(3) Stocking density of live equine(s) must not be to an extent that impinges on the animals' safety during transportation.

(4) Guidance on how to meet these requirements may be found in the Live Animals Regulations (LAR), as amended, published by the International Air Transport Association (IATA) or the Terrestrial Animal Health Code published by the World Organization for Animal Health (WOAH). The Administrator may also approve alternative guidance than that described in the LAR or the Terrestrial Animal Health Code.

* * * * *

(e) Shipping container. * * *

5. Amend § 93.303 by:

a. In paragraph (a), removing the words “these stations” and adding in their place the words “the following station(s)”, and removing the words “Los Angeles, California; Miami, Florida; and”;

b. Revising paragraphs (b), (c), and (d); and

c. In paragraph (e), adding a sentence after the last sentence and redesignating footnote 10 as footnote 1.

The revisions and addition read as follows:

§ 93.303 Ports designated for the importation of horses.

* * * * *

(b) Canadian border ports. Land border ports designated for the entry of horses from Canada may be found on the APHIS website at www.aphis.usda.gov/aphis/ourfocus/importexport/animal-import-and-export/equine. Changes to the list of approved ports will be announced through notices published in the Federal Register.

(c) Mexican border ports. Land border ports designated for the entry of horses from Mexico may be found on the APHIS website at www.aphis.usda.gov/aphis/ourfocus/importexport/animal-import-and-export/equine. Changes to the list of approved ports will be announced through notices published in the Federal Register.

(d) Limited ports. Certain ports are designated as having inspection facilities for the entry of horses and horse products such as horse test specimens which do not appear to require restraint and holding inspection facilities. These ports may be found on the APHIS website at www.aphis.usda.gov/aphis/ourfocus/importexport/animal-import-and-export/equine. Changes to the list of approved ports will be announced through notices published in the Federal Register.

(e) * * * These ports may be found on the APHIS website at www.aphis.usda.gov/aphis/ourfocus/importexport/animal-import-and-export/equine.

* * * * *

6. Amend § 93.304 by:

a. Revising the section heading;

b. In paragraph (a)(1)(i), in the first sentence, adding the words “or transiting” after the words “For horses from”, adding the words “Federal quarantine or” after the words “quarantine at a”, and removing the text “except as otherwise provided for in §§ 93.315, 93.319, and 93.321,”, and in the next to last sentence, adding the words “, or other attestation regarding the health of the animals” after the word “subjected”; and

c. Revising the OMB citation at the end of the section.

The revisions read as follows:

§ 93.304 Import permits for horses and for horse specimens for diagnostic purposes; reservation fees for space at quarantine facilities maintained by APHIS.

* * * * *

(Approved by the Office of Management and Budget under control numbers 0579-0040, 0579-0324, and 0579-0485)

§ 93.306 [Amended]

7. Amend § 93.306 by adding the words “, to include horses dead upon presentation and horses arriving in the same shipment as such horses,” after the words “all other horses” in the second sentence.

8. Revise § 93.307 to read as follows:

§ 93.307 Articles accompanying horses.

No litter or manure, fodder or other aliment, nor any equipment such as boxes, buckets, ropes, chains, blankets, or other things used for or about horses governed under any law or regulation administered by the Secretary of Agriculture for prevention of the introduction or dissemination of any pests or diseases of livestock, shall be landed from any conveyance except under such restrictions as the inspector in charge at the port of entry shall direct.

9. Amend § 93.308 by:

a. Revising paragraphs (a)(1) and (a)(2) introductory text;

b. Redesignating paragraphs (a)(3) and (4) as paragraphs (a)(4) and (5), respectively, and adding a new paragraph (a)(3);

c. In newly redesignated paragraph (a)(4), redesignating footnote 11 as footnote 1 and revising newly redesignated footnote 1;

d. In paragraph (b) introductory text, adding the words “, except horses originating from regions in which Venezuelan equine encephalomyelitis or screwworm is declared to exist,” after the citation “§ 93.303(e)”;

e. In paragraph (b)(2)(i), redesignating footnote 12 as footnote 2;

f. In paragraph (c)(1)(iv)(B), redesignating footnote 13 as footnote 3;

g. In paragraph (c)(4)(v)(B), removing “(a)(4)” and adding “(a)(5)” in its place; and

h. Revising the OMB citation at the end of the section.

The revisions and addition read as follows:

§ 93.308 Quarantine requirements.

(a) * * *

(1) Except as provided in §§ 93.317 (horses from Canada) and 93.324 (horses from Mexico), horses intended for importation from regions that APHIS considers to be affected with Venezuelan equine encephalomyelitis shall be quarantined at a port designated in § 93.303 to be evaluated for signs of Venezuelan equine encephalomyelitis. Each horse must be accompanied at the time of importation by an import permit in accordance with § 93.304.

(i) A list of regions that APHIS considers affected with Venezuelan equine encephalomyelitis is maintained on the APHIS website at www.aphis.usda.gov/aphis/ourfocus/animalhealth/animal-and-animal-product-import-information/animal-health-status-of-regions. Copies of the list can be obtained via postal mail or email upon request to Regionalization Evaluation Services, Strategy and Policy, Veterinary Services, Animal and Plant Health Inspection Service, 4700 River Road Unit 38, Riverdale, Maryland 20737; AskRegionalization@usda.gov.

(ii) APHIS will add a region to the list upon determining that the disease exists in the region based on reports APHIS receives of outbreaks of the disease from veterinary officials of the exporting country, from the World Organization for Animal Health (WOAH), or from other sources the Administrator determines to be reliable. APHIS will remove a region from the list after conducting an evaluation of the region in accordance with § 92.2 of this subchapter and finding that the disease is not present in the region. In the case of a region formerly not on this list that is added due to an outbreak, the region may be removed from the list in accordance with the procedures for reestablishment of a region's disease-free status in § 92.4 of this subchapter.

(2) Horses intended for importation from regions APHIS considers to be affected with African horse sickness may enter the United States only at the port of New York, and must be quarantined at the New York Animal Import Center in Newburgh, New York, for at least 60 days. This restriction also applies to horses that have stopped in or transited a region considered affected with African horse sickness. Each horse must be accompanied at the time of importation by an import permit in accordance with § 93.304.

* * * * *

(3) Horses from regions where APHIS considers screwworm to exist may be imported into the United States only if they meet the requirements in paragraphs (a)(3)(i) through (vii) of this section, obtain an import permit in accordance with § 93.304, and meet all other applicable requirements of this part. A list of regions where screwworm is considered to exist is maintained on the APHIS website at www.aphis.usda.gov/animalhealth/disease-status-of-regions. Copies of the list will also be available via postal mail, fax, or email upon request to the Regionalization Evaluation Services, Strategy and Policy, Veterinary Services, Animal and Plant Health Inspection Service, 4700 River Road Unit 38, Riverdale, MD 20737; AskRegionalization@usda.gov. APHIS will add a region to the list upon determining that screwworm exists in the region based on reports APHIS receives of detections of the pest from veterinary officials of the exporting country, from WOAH, or from other sources the Administrator determines to be reliable. APHIS will remove a region from the list after conducting an evaluation of the region in accordance with § 92.2 of this subchapter and finding that screwworm is not present in the region. In the case of a region formerly not on this list that is added due to a detection, the region may be removed from the list in accordance with the procedures for reestablishment of a region's disease-free status in § 92.4 of this subchapter.

(i) A veterinarian must treat horses with ivermectin 3 to 5 days prior to the date of export to the United States according to the recommended dose prescribed on the product's label.

(ii) Horses must be examined for screwworm by a full-time salaried veterinary official of the exporting country within 24 hours prior to shipment to the United States. The official must fully examine the horses, including their external genitalia. If horses are found to be infested with screwworm, they must be treated until free from infestation.

(iii) At the time horses are loaded onto a means of conveyance for export, a veterinarian must treat any visible wounds on the animals with a solution of coumaphos dust at a concentration of 5 percent active ingredient.

(iv) Horses must be accompanied to the United States by a certificate signed by a full-time salaried veterinary official of the exporting country. The certificate must state that the horses, including their external genitalia, have been thoroughly examined and found free of screwworm and that the horses have been treated in accordance with paragraphs (a)(3)(i) and (iii) of this section.

(v) Horses must be quarantined upon arrival in the United States at a port designated in § 93.303 for at least 7 days.

(vi) Horses must be examined for screwworm by a veterinarian within 24 hours after arrival at a port designated in § 93.303. The examining veterinarian must examine horses, including their external genitalia, to determine whether the horse is infested with screwworm.

(vii) Horses must be held at the animal import center for a minimum of 7 days. On day 7, prior to the horses' release, the horses must be examined by a veterinarian at the expense of the owner or broker. For this examination, male horses must be tranquilized or sedated so that the external genitalia of the horses can be thoroughly examined. If screwworm is found during this examination, the horses must be held in quarantine and treated until free of infestation.

* * * * *

¹ Protocols for testing equines in import quarantine are available on the APHIS website at www.aphis.usda.gov/aphis/ourfocus/importexport/animal-import-and-export/equine/guidelines-docs-related-to-importing-equine.

(Approved by the Office of Management and Budget under control numbers 0579-0313 and 0579-0485)

10. Amend § 93.314 by:

a. Revising paragraphs (a) introductory text and (a)(1);

b. Redesignating paragraphs (a)(4) and (5) as paragraphs (a)(6) and (7), respectively, and adding new paragraphs (a)(4) and (5);

c. Revising newly redesignated paragraph (a)(7)(i);

d. Adding paragraph (d); and

e. Adding an OMB citation at the end of the section.

The revisions and additions read as follows:

§ 93.314 Horses, certification, and accompanying equipment.

(a) Horses offered for importation from any part of the world shall be accompanied by an original certificate endorsed by a salaried veterinary officer of the national government of the region of origin, or if exported from Mexico, shall be accompanied either by such a certificate or by a certificate issued by a veterinarian accredited by the National Government of Mexico and endorsed by a full-time salaried veterinary officer of the National Government of Mexico, thereby representing that the veterinarian issuing the certificate was authorized to do so. The certificate shall specify the name and address of the importer; the species, breed, number or quantity of horses or horse test specimens to be imported; the purpose of the importation; individual horse identification which requires a description of the horse, name, age, markings and, when present, registration number, tattoo, microchip, eartag, brand, if any; the region and premises of origin; the name and address of the exporter; and the destination address for release into the United States; and shows that:

(1) The horses described in the certificate have been in said region during the 60 days preceding exportation, or, for horses described in § 93.301(g), for the duration of their temporary exportation to each CEM-affected region;

* * * * *

(4) The horse, if applicable, has not been gelded during the 14 days preceding exportation;

(5) The horse will be accompanied by documentation of pre-export examination occurring within 48 hours of departure from the port of embarkation endorsed by a salaried veterinary medical officer;

* * * * *

(7) * * *

(i) The horses, except horses described in § 93.301(d), (e), and (f), have not been in any region listed in accordance with § 93.301(c)(1) on the APHIS website as affected with CEM during the 12 months immediately prior to their importation into the United States;

* * * * *

(d) For purposes of this section, the term “original” means documentation is prepared and issued directly from the national government of the region of origin or annotated by the national government of the region of origin to indicate how the documentation may be verified. Any declaration, permit, or other required document for horses may be issued and presented using a United States Government electronic information exchange system or other method authorized by APHIS.

(Approved by the Office of Management and Budget under control number 0579-0485)

Subpart C—[Amended]

11. In each undesignated center heading in subpart C listed in the first column, redesignate the footnote number in the second column as the footnote number in the third column:

Undesignated center heading in subpart C | Old footnote | New footnote
Canada | 16 | 1
Central America and West Indies | 17 | 1
Mexico | 18 | 1

12. Amend § 93.317 by:

a. Revising paragraph (a); and

b. Redesignating paragraph (c) as paragraph (d) and adding a new paragraph (c).

The revision and addition read as follows:

§ 93.317 Horses from Canada.

(a) Except as provided in paragraph (d) of this section, horses from Canada shall be inspected as provided in § 93.306 and accompanied by a certificate as required by § 93.314, which shall include evidence of a negative test for equine infectious anemia for which blood samples were drawn during the 180 days preceding exportation to the United States and which test was conducted in a laboratory approved by the Canada Department of Agriculture or the United States Department of Agriculture. Horses accompanying their dams, which were foaled after their dam was so tested negative, need not be so tested and shall otherwise be handled as provided in § 93.314. Certificates required for horses from Canada must be issued and endorsed by a salaried veterinarian of the Canadian Government. USDA veterinary port inspection is not required for horses imported from Canada under temporary Customs authorization for a period of 30 days from the date of issue of the certificate and the certificate issued is valid for an unlimited number of importations into the United States during the 30-day period.

* * * * *

(c) Any horse imported into the United States from Canada through air or ocean ports of entry must obtain an import permit under § 93.304 and shall otherwise be handled as provided in §§ 93.305 and 93.314.

* * * * *

13. Revise § 93.319 to read as follows:

§ 93.319 Import permit and declaration for horses.

For all horses offered for importation from or transiting through regions of Central America or of the West Indies, the importer or his or her agent shall have obtained an import permit under § 93.304 and shall present two copies of a declaration as provided in § 93.305.

(Approved by the Office of Management and Budget under control number 0579-0485)

§ 93.320 [Amended]

14. Amend § 93.320 by adding the words “or transiting through” after the word “from” in the section heading and the first sentence.

15. Amend § 93.321 by adding a sentence after the last sentence and an OMB citation at the end of the section to read as follows:

§ 93.321 Import permits and applications for inspection for horses.

* * * Horses quarantined at a U.S. facility designated in § 93.303 must obtain an import permit under § 93.304.

(Approved by the Office of Management and Budget under control number 0579-0485)

16. Amend § 93.324 by redesignating footnote 19 as footnote 1 and revising it to read as follows:

§ 93.324 Detention for quarantine.

* * * * *

¹ Protocols for testing equines in import quarantine are available on the APHIS website at www.aphis.usda.gov/aphis/ourfocus/importexport/animal-import-and-export/equine/guidelines-docs-related-to-importing-equine.

Done in Washington, DC, this 8th day of September 2023.
Michael Watson,
Acting Administrator, Animal and Plant Health Inspection Service.

[FR Doc. 2023-19864 Filed 9-13-23; 8:45 am]

BILLING CODE 3410-34-P